DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, Office of the General Counsel, U.S. Department of Homeland Security, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation & Regulatory Review” (Jan. 18, 2011), which require the Department to publish a semiannual agenda of regulations. The regulatory agenda is a summary of current and projected rulemakings, as well as actions completed since the publication of the last regulatory agenda for the Department. DHS's last semiannual regulatory agenda was published on January 8, 2013, at 78 FR 1586.

Beginning in fall 2007, the Internet became the basic means for disseminating the Unified Agenda. The complete Unified Agenda is available online at www.reginfo.gov.

The Regulatory Flexibility Act (5 U.S.C. 602) requires Federal agencies to publish their regulatory flexibility agenda in the Federal Register. A regulatory flexibility agenda shall contain, among other things, “a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: April 24, 2013.
Christina E. McDonald,
Associate General Counsel for Regulatory Affairs.

Office of the Secretary—Final Rule Stage
Sequence No. | Title | Regulation Identifier No.
175 | Ammonium Nitrate Security Program | 1601-AA52

U.S. Citizenship and Immigration Services—Long-Term Actions
Sequence No. | Title | Regulation Identifier No.
176 | Administrative Appeals Office: Procedural Reforms To Improve Efficiency | 1615-AB98

U.S. Coast Guard—Proposed Rule Stage
Sequence No. | Title | Regulation Identifier No.
177 | Outer Continental Shelf Activities | 1625-AA18
178 | Updates to Maritime Security | 1625-AB38
179 | Lifesaving Devices Uninspected Vessels Commercial Barges and Sailing Vessels (Section 610 Review) | 1625-AB83

U.S. Coast Guard—Final Rule Stage
Sequence No. | Title | Regulation Identifier No.
180 | Implementation of the 1995 Amendments to the International Convention on Standards of Training, Certification, and Watchkeeping (STCW) for Seafarers, 1978 | 1625-AA16
181 | Vessel Requirements for Notices of Arrival and Departure, and Automatic Identification System | 1625-AA99
182 | Transportation Worker Identification Credential (TWIC); Card Reader Requirements | 1625-AB21
183 | Nontank Vessel Response Plans and Other Vessel Response Plan Requirements | 1625-AB27
184 | Marine Vapor Control Systems | 1625-AB37
185 | Commercial Fishing Vessels—Implementation of 2010 and 2012 Legislation | 1625-AB85

U.S. Coast Guard—Long-Term Actions
Sequence No. | Title | Regulation Identifier No.
186 | Marine Transportation—Related Facility Response Plans for Hazardous Substances | 1625-AA12
187 | Tank Vessel Response Plans for Hazardous Substances | 1625-AA13
188 | Numbering of Undocumented Barges | 1625-AA14
189 | Inspection of Towing Vessels | 1625-AB06
190 | MARPOL Annex 1 Update | 1625-AB57

U.S. Customs and Border Protection—Final Rule Stage
Sequence No. | Title | Regulation Identifier No.
191 | Importer Security Filing and Additional Carrier Requirements | 1651-AA70

Transportation Security Administration—Proposed Rule Stage
Sequence No. | Title | Regulation Identifier No.
192 | General Aviation Security and Other Aircraft Operator Security | 1652-AA53

Transportation Security Administration—Final Rule Stage
Sequence No. | Title | Regulation Identifier No.
193 | Aircraft Repair Station Security | 1652-AA38

U.S. Immigration and Customs Enforcement—Final Rule Stage
Sequence No. | Title | Regulation Identifier No.
194 | Standards To Prevent, Detect and Respond to Sexual Abuse and Assault in Confinement Facilities (Section 610 Review) | 1653-AA65

DEPARTMENT OF HOMELAND SECURITY (DHS)

Office of the Secretary (OS)

Final Rule Stage

175. Ammonium Nitrate Security Program

Legal Authority: 2008 Consolidated Appropriations Act, sec 563, subtitle J—Secure Handling of Ammonium Nitrate, Pub. L. 110-161

Abstract: This rulemaking will implement the December 2007 amendment to the Homeland Security Act entitled “Secure Handling of Ammonium Nitrate.” The amendment requires the Department of Homeland Security to “regulate the sale and transfer of ammonium nitrate by an ammonium nitrate facility. . . to prevent the misappropriation or use of ammonium nitrate in an act of terrorism.”

Timetable:

Action | Date | FR Cite
ANPRM | 10/29/08 | 73 FR 64280
Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Final Rule | 03/00/14 |

Regulatory Flexibility Analysis Required: Yes.

Agency Contact: Jon MacLaren, Chief, Rulemaking Section, Department of Homeland Security, Office of the Secretary, Infrastructure Security Compliance Division (NPPD/ISCD), Mail Stop 0610, 245 Murray Lane SW., Arlington, VA 20598-0610, Phone: 703 235-5263, Email: jon.m.maclaren@hq.dhs.gov.

RIN: 1601-AA52

DEPARTMENT OF HOMELAND SECURITY (DHS)

U.S. Citizenship and Immigration Services (USCIS)

Long-Term Actions

176. Administrative Appeals Office: Procedural Reforms To Improve Efficiency

Legal Authority: 5 U.S.C. 552; 5 U.S.C. 552a; 8 U.S.C. 1101; 8 U.S.C. 1103; 8 U.S.C. 1304; 6 U.S.C. 112

Abstract: This proposed rule revises the requirements and procedures for the filing of motions and appeals before the Department of Homeland Security (DHS), U.S. Citizenship and Immigration Services, and its Administrative Appeals Office. The proposed changes are intended to streamline the existing processes for filing motions and appeals and will reduce delays in the review and appellate process. This rule also proposes additional changes necessitated by the establishment of DHS and its components.

Timetable:

Action | Date | FR Cite
NPRM | 07/00/14 |

Regulatory Flexibility Analysis Required: Yes.

Agency Contact: William K. Renwick, Supervisory Citizenship and Immigration Appeals Officer, Department of Homeland Security, U.S. Citizenship and Immigration Services, Administrative Appeals Office, Washington, DC 20529-2090, Phone: 703 224-4501, Email: william.k.renwick@uscis.dhs.gov.

RIN: 1615-AB98

DEPARTMENT OF HOMELAND SECURITY (DHS)

U.S. Coast Guard (USCG)

Proposed Rule Stage

177. Outer Continental Shelf Activities

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Ocean Energy Management, Regulation, and Enforcement (BOEMRE). This project would revise the regulations on OCS activities by: (1) Adding new requirements, for OCS units for lifesaving, fire protection, training, hazardous materials used as stores, and accommodation spaces; (2) adding standards for electrical and machinery installations in hazardous locations; (3) providing regulations for dynamic positioning systems; (4) providing for USCG acceptance and approval of specified classification society plan reviews, inspections, audits, and surveys; and (5) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95 |
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00 |
Supplemental NPRM | 12/00/13 |

Regulatory Flexibility Analysis Required: Yes.

Agency Contact: Dan Lawrence, Program Manager, CG-OES-2, Department of Homeland Security, U.S. Coast Guard, Commandant, 2100 Second Street SW., STOP 7126, Washington, DC 20593-7126, Phone: 202 372-1382, Email: james.d.lawrence@uscg.mil.

RIN: 1625-AA18

178. Updates to Maritime Security

Legal Authority: 33 U.S.C. 1226; 33 U.S.C. 1231; 46 U.S.C. ch 701; 50 U.S.C. 191 and 192; EO 12656; 3 CFR 1988 Comp p 585; 33 CFR 1.05-1; 33 CFR 6.04-11; 33 CFR 6.14; 33 CFR 6.16; 33 CFR 6.19; DHS Delegation No 0170.1

Abstract: The Coast Guard proposes certain additions, changes, and amendments to 33 CFR, subchapter H. Subchapter H is comprised of parts 101 through 106. Subchapter H implements the major provisions of the Maritime Transportation Security Act of 2002 (MTSA). This rulemaking is the first major revision to subchapter H. The proposed changes would further the goals of domestic compliance and international cooperation by incorporating requirements from legislation implemented since the original publication of these regulations, such as the Security and Accountability for Every (SAFE) Port Act of 2006, and including international standards such as STCW security training. This rulemaking has international interest because of the close relationship between subchapter H and the International Ship and Port Security Code (ISPS).

Timetable:

Action | Date | FR Cite
NPRM | 12/00/13 |

Regulatory Flexibility Analysis Required: Yes.

Agency Contact: LCDR Loan O'Brien, Project Manager, Department of Homeland Security, U.S. Coast Guard, Commandant, (CG-FAC-2), 2100 Second Street SW., STOP 7581, Washington, DC 20593-7581, Phone: 202 372-1133, Email: loan.t.o'brien@uscg.mil.

RIN: 1625-AB38

179. Lifesaving Devices Uninspected Vessels Commercial Barges and Sailing Vessels (Section 610 Review)

Legal Authority: Pub. L. 111-281; 33 U.S.C. 1903(b); 46 U.S.C. 3306; 46 U.S.C. 4102; 46 U.S.C. 4302; Department of Homeland Security Delegation No. 0170.1

Abstract: Section 619 of the 2010 Coast Guard Authorization Act, (Act) (Pub. L. 111-281) amends title 46, United States Code (U.S.C.) 4102(b), and directs the Coast Guard to regulate the installation, maintenance, and use of life preservers and other lifesaving devices for individuals on uninspected vessels. Currently, uninspected commercial barges not carrying passengers for hire are exempt from carriage requirements. This proposed rule would fulfill that statutory mandate by changing 46 CFR 25.25 and several associated tables to prescribe regulations requiring the installation, maintenance, and use of lifesaving devices to enhance the safety of persons working aboard these vessels.

Timetable:

Action | Date | FR Cite
NPRM | 07/00/13 |

Regulatory Flexibility Analysis Required: Undetermined.

Agency Contact: Martin L. Jackson, Project Manager, Department of Homeland Security, U.S. Coast Guard, Commandant (CG-ENG-4), 2100 2nd Street SW., STOP 7126, Washington, DC 20593-7126, Phone: 202 372-1391, Email: martin.l.jackson@uscg.mil.

RIN: 1625-AB83

DEPARTMENT OF HOMELAND SECURITY (DHS)

U.S. Coast Guard (USCG)

Final Rule Stage

180. Implementation of the 1995 Amendments to the International Convention on Standards of Training, Certification, and Watchkeeping (STCW) for Seafarers, 1978

Legal Authority: 46 U.S.C. 2103; 46 U.S.C. 71; 46 U.S.C. 73; DHS Delegation No. 0170.1

Abstract: The International Maritime Organization (IMO) comprehensively amended the International Convention on Standards of Training, Certification, and Watchkeeping (STCW) for Seafarers, 1978, in 1995 and 2010. The 1995 amendments came into force on February 1, 1997. This project implements those amendments by revising current rules to ensure that the United States complies with their requirements on: The training of merchant mariners, the documenting of their qualifications, and watch-standing and other arrangements aboard seagoing merchant ships of the United States. In addition, the Coast Guard has identified the need for additional changes to the interim rule issued in 1997. This project supports the Coast Guard's broad role and responsibility of maritime safety. It also supports the roles and responsibilities of the Coast Guard of reducing deaths and injuries of crew members on domestic merchant vessels and eliminating substandard vessels from the navigable waters of the United States. The Coast Guard published an NPRM on November 17, 2009, and Supplemental NPRM (SNPRM) on March 23, 2010.

At a June 2010 diplomatic conference, the IMO adopted additional amendments to the STCW convention which change the minimum training requirements for seafarers. In response to feedback and to the adoption of those amendments, the Coast Guard developed a second Supplemental NPRM to incorporate the 2010 Amendments into the 1990 interim rule.

Timetable:

Action | Date | FR Cite
Notice of Meeting | 08/02/95 | 60 FR 39306
Supplemental NPRM Comment Period End | 09/29/95 |
Notice of Inquiry | 11/13/95 | 60 FR 56970
Comment Period End | 01/12/96 |
NPRM | 03/26/96 | 61 FR 13284
Notice of Public Meetings | 04/08/96 | 61 FR 15438
NPRM Comment Period End | 07/24/96 |
Notice of Intent | 02/04/97 | 62 FR 5197
Interim Final Rule | 06/26/97 | 62 FR 34505
Interim Final Rule Effective | 07/28/97 |
NPRM | 11/17/09 | 74 FR 59353
NPRM Comment Period End | 02/16/10 |
Supplemental NPRM | 03/23/10 | 75 FR 13715
Supplemental NPRM | 08/01/11 | 76 FR 45908
Public Meeting Notice | 08/02/11 | 76 FR 46217
Supplemental NPRM Comment Period End | 09/30/11 |
Final Rule | 10/00/13 |

Regulatory Flexibility Analysis Required: Yes.

Agency Contact: Mark Gould, Project Manager, CG-OES-1, Department of Homeland Security, U.S. Coast Guard, 2100 Second Street SW., STOP 7126, Washington, DC 20593-7126, Phone: 202 372-1409, Email: mark.c.gould@uscg.mil.

RIN: 1625-AA16

181. Vessel Requirements for Notices of Arrival and Departure, and Automatic Identification System

Legal Authority: 33 U.S.C. 1223; 33 U.S.C. 1225; 33 U.S.C. 1231; 46 U.S.C. 3716; 46 U.S.C. 8502 and ch 701; sec 102 of Pub. L. 107-295; EO 12234

Abstract: This rulemaking would expand the applicability for Notice of Arrival and Departure (NOAD) and Automatic Identification System (AIS) requirements. These expanded requirements would better enable the Coast Guard to correlate vessel AIS data with NOAD data, enhance our ability to identify and track vessels, detect anomalies, improve navigation safety, and heighten our overall maritime domain awareness.

The NOAD portion of this rulemaking could expand the applicability of the NOAD regulations by changing the minimum size of vessels covered below the current 300 gross tons, require a notice of departure when a vessel is departing for a foreign port or place, and mandate electronic submission of NOAD notices to the National Vessel Movement Center. The AIS portion of this rulemaking would expand current AIS carriage requirements for the population identified in the Safety of Life at Sea (SOLAS) Convention and the Marine Transportation Marine Transportation Security Act (MTSA) of 2002.

Timetable:

Action | Date | FR Cite
NPRM | 12/16/08 | 73 FR 76295
Notice of Public Meeting | 01/21/09 | 74 FR 3534
Notice of Second Public Meeting | 03/02/09 | 74 FR 9071
NPRM Comment Period End | 04/15/09 |
Notice of Second Public Meeting Comment Period End | 04/15/09 |
Final Rule | 12/00/13 |

Regulatory Flexibility Analysis Required: Yes.

Agency Contact: LCDR Michael D. Lendvay, Program Manager, Office of Commercial Vessel, Foreign and Offshore Vessel Activities Div. (CG-CVC-2), Department of Homeland Security, U.S. Coast Guard, 2100 Second Street SW., STOP 7581, Washington, DC 20593-7581, Phone: 202 372-1218, Email: michael.d.lendvay@uscg.mil.

Jorge Arroyo, Project Manager, Office of Navigation Systems (CG-NAV-1), Department of Homeland Security, U.S. Coast Guard, 2100 Second Street SW., STOP 7683, Washington, DC 20593-7683, Phone: 202 372-1563, Email: jorge.arroyo@uscg.mil.

RIN: 1625-AA99

182. Transportation Worker Identification Credential (TWIC); Card Reader Requirements

Legal Authority: 33 U.S.C. 1226; 33 U.S.C. 1231; 46 U.S.C. ch 701; 50 U.S.C. 191 and 192; EO 12656

Abstract: The Coast Guard is establishing electronic card reader requirements for maritime facilities and vessels to be used in combination with TSA's Transportation Worker Identification Credential. Congress enacted several statutory requirements within the Security and Accountability for Every (SAFE) Port Act of 2006 to guide regulations pertaining to TWIC readers, including the need to evaluate TSA's final pilot program report as part of the TWIC reader rulemaking. During the rulemaking process, we will take into account the final pilot data and the various conditions in which TWIC readers may be employed. For example, we will consider the types of vessels and facilities that will use TWIC readers, locations of secure and restricted areas, operational constraints, and need for accessibility. Recordkeeping requirements, amendments to security plans, and the requirement for data exchanges (i.e., Canceled Card List) between TSA and vessel or facility owners/operators will also be addressed in this rulemaking.

Timetable:

Action | Date | FR Cite
ANPRM | 03/27/09 | 74 FR 13360
Notice of Public Meeting | 04/15/09 | 74 FR 17444
ANPRM Comment Period End | 05/26/09 |
Notice of Public Meeting Comment Period End | 05/26/09 |
NPRM | 03/22/13 | 78 FR 20558
NPRM Comment Period Extended | 05/10/13 | 78 FR 27335
NPRM Comment Period End | 05/22/13 |
NPRM Comment Period Extended End | 06/20/13 |
Final Rule | 12/00/13 |

Regulatory Flexibility Analysis Required: Yes.

Agency Contact: LCDR Loan O'Brien, Project Manager, Department of Homeland Security, U.S. Coast Guard, Commandant, (CG-FAC-2), 2100 Second Street SW., STOP 7581, Washington, DC 20593-7581, Phone: 202 372-1133, Email: loan.t.o'brien@uscg.mil.

RIN: 1625-AB21

183. Nontank Vessel Response Plans and Other Vessel Response Plan Requirements

Legal Authority: 3 U.S.C. 301 to 303; 33 U.S.C. 1223; 33 U.S.C. 1231; 33 U.S.C. 3121; 33 U.S.C. 1903; 33 U.S.C. 1908; 46 U.S.C. 6101

Abstract: This rulemaking would establish regulations requiring owners or operators of nontank vessels to prepare and submit oil spill response plans. The Federal Water Pollution Control Act defines nontank vessels as self-propelled vessels of 400 gross tons or greater that operate on the navigable waters of the United States, carry oil of any kind as fuel for main propulsion, and are not tank vessels. The NPRM proposed to specify the content of a response plan, and among other issues, address the requirement to plan for responding to a worst case discharge and a substantial threat of such a discharge. Additionally, the NPRM proposed to update International Shipboard Oil Pollution Emergency Plan (SOPEP) requirements that apply to certain nontank vessels and tank vessels. Finally, the NPRM proposed to require vessel owners and operators to submit their vessel response plan control number as part of the notice of arrival information. This project supports the Coast Guard's broad roles and responsibilities of maritime stewardship.

Timetable:

Action | Date | FR Cite
NPRM | 08/31/09 | 74 FR 44970
Public Meeting | 09/25/09 | 74 FR 48891
NPRM Comment Period End | 11/30/09 |
Final Rule | 07/00/13 |

Regulatory Flexibility Analysis Required: Yes.

Agency Contact: Mr. Timothy M. Brown, Project Manager, Office of Commercial Vessel Compliance (CG-CVC-1), Department of Homeland Security, U.S. Coast Guard, 2100 Second Street SW., Stop 7581, Washington, DC 20593-7581, Phone: 202 372-2358, Email: timothy.m.brown@uscg.mil.

RIN: 1625-AB27

184. Marine Vapor Control Systems

Legal Authority: 33 U.S.C. 1225; 42 U.S.C. 7511b(f)(2); 46 U.S.C. 3703

Abstract: The Coast Guard proposes to revise the existing safety regulations for facility and vessel vapor control systems (VCSs). The proposed changes would make VCS requirements more compatible with new Federal and State environmental requirements, regulate industry advancements in VCS technology, and codify the standards in the design and operation of a VCS at a tank barge cleaning facility. These changes would increase the safety of operations by regulating the design, installation, and use of VCSs, but would not require the installation or use of the systems.

Timetable:

Action | Date | FR Cite
NPRM | 10/21/10 | 75 FR 65151
NPRM Comment Period End | 04/21/11 |
Final Rule | 07/00/13 |

Regulatory Flexibility Analysis Required: Yes.

Agency Contact: LT Jodi Min, Project Manager, CG-ENG-5, Department of Homeland Security, U.S. Coast Guard, 2100 Second Street SW., STOP 7126, Washington, DC 20593-7126, Phone: 202 372-1422, Email: jodi.j.min@uscg.mil.

RIN: 1625-AB37

185. Commercial Fishing Vessels—Implementation of 2010 and 2012 Legislation

Legal Authority: Pub. L. 111-281; title VI (Marine Safety)

Abstract: The Coast Guard is implementing those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard maritime safety mission.

Timetable:

Action | Date | FR Cite
Interim Final Rule | 09/00/13 |

Regulatory Flexibility Analysis Required: Yes.

Agency Contact: Jack Kemerer, Project Manager, CG-CVC-43, Department of Homeland Security, U.S. Coast Guard, 2100 Second Street SW., Washington, DC 20593, Phone: 202 372-1249, Email: jack.a.kemerer@uscg.mil.

RIN: 1625-AB85

DEPARTMENT OF HOMELAND SECURITY (DHS)

U.S. Coast Guard (USCG)

Long-Term Actions

186. Marine Transportation-Related Facility Response Plans for Hazardous Substances

Legal Authority: 33 U.S.C. 1321(j); Pub. L. 101-380; Pub. L. 108-293

Abstract: This project would implement provisions of the Oil Pollution Act of 1990 (OPA 90) that require an owner or operator of a marine transportation-related facility transferring bulk hazardous substances to develop and operate in accordance with an approved response plan. The regulations would apply to marine transportation-related facilities that, because of their location, could cause harm to the environment by discharging a hazardous substance into or on the navigable waters or adjoining shoreline. A separate rulemaking, under RIN 1625-AA13, was developed in tandem with this rulemaking and addresses hazardous substances response plan requirements for tank vessels. This project supports the Coast Guard's broad roles and responsibilities of maritime safety and maritime stewardship by reducing the consequence of pollution incidents.

Timetable:

Action | Date | FR Cite
ANPRM | 05/03/96 | 61 FR 20084
Notice of Public Hearings | 07/03/96 | 61 FR 34775
ANPRM Comment Period End | 09/03/96
NPRM | 03/31/00 | 65 FR 17416
NPRM Comment Period End | 06/29/00
Notice To Reopen Comment Period | 02/17/11 | 76 FR 9276
Comment Period Reopen End | 05/18/11
Next Action Undetermined

Regulatory Flexibility Analysis Required: Yes.

Agency Contact: Raymond Martin, Systems Engineering Division (CG-ENG-3), Department of Homeland Security, U.S. Coast Guard, 2100 Second Street SW., STOP 7126, Washington, DC 20593-7126, Phone: 202 372-1384, Email: raymond.w.martin@uscg.mil.

RIN: 1625-AA12

187. Tank Vessel Response Plans for Hazardous Substances

Legal Authority: 33 U.S.C. 1231; 33 U.S.C. 1321(j); Pub. L. 101-380; Pub. L. 108-293

Abstract: This project would implement provisions of the Oil Pollution Act of 1990 that require an owner or operator of a tank vessel carrying bulk hazardous substances to develop and submit to the Coast Guard a response plan and operate in accordance with an approved response plan. The regulations would apply to vessels operating on the navigable waters or within the Exclusive Economic Zone (EEZ) of the United States that carry bulk hazardous substances. Additionally, this project would update shipboard marine pollution emergency plans for noxious liquid substance (SMPEP-NLS) requirements that apply to certain nontank vessels and tank vessels. A separate rulemaking, under RIN 1625-AA12, would address hazardous substances response plan requirements for marine transportation-related facilities. This project supports the Coast Guard's broad roles and responsibilities of maritime safety and maritime stewardship by reducing the consequences of pollution incidents.

Timetable:

Action | Date | FR Cite
ANPRM | 05/03/96 | 61 FR 20084
Notice of Public Hearings | 07/03/96 | 61 FR 34775
ANPRM Comment Period End | 09/03/96
NPRM | 03/22/99 | 64 FR 13734
Notice of Public Hearing | 06/15/99 | 64 FR 31994
NPRM Comment Period Extended | 06/15/99
NPRM Comment Period End | 06/21/99
NPRM Extended Comment Period End | 08/30/99
Notice To Reopen Comment Period | 02/17/11 | 76 FR 9276
Comment Period End | 05/18/11
Next Action Undetermined

Regulatory Flexibility Analysis Required: Yes.

Agency Contact: Raymond Martin, Systems Engineering Division (CG-ENG-3), Department of Homeland Security, U.S. Coast Guard, 2100 Second Street SW., STOP 7126, Washington, DC 20593-7126, Phone: 202 372-1384, Email: raymond.w.martin@uscg.mil.

RIN: 1625-AA13

188. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system for these barges. The numbering of undocumented barges will allow identification of owners of barges found abandoned. This rulemaking supports the Coast Guard's broad role and responsibility of maritime stewardship.

Timetable:

Action | Date | FR Cite
Request for Comments | 10/18/94 | 59 FR 52646
Comment Period End | 01/17/95
ANPRM | 07/06/98 | 63 FR 36384
ANPRM Comment Period End | 11/03/98
NPRM | 01/11/01 | 66 FR 2385
NPRM Comment Period End | 04/11/01
NPRM Reopening of Comment Period | 08/12/04 | 69 FR 49844
NPRM Reopening Comment Period End | 11/10/04
Supplemental NPRM | To Be Determined

Regulatory Flexibility Analysis Required: Yes.

Agency Contact: Denise Harmon, Project Manager, Department of Homeland Security, U.S. Coast Guard, National Vessel Documentation Center, 792 T.J. Jackson Drive, Falling Waters, WV 25419, Phone: 304 271-2506, Email: denise.e.harmon@uscg.mil.

RIN: 1625-AA14

189. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

Abstract: This rulemaking would implement a program of inspection for certification of towing vessels, which were previously uninspected. It would prescribe standards for safety management systems and third-party auditors and surveyors, along with standards for construction, operation, vessel systems, safety equipment, and recordkeeping.

Timetable:

Action | Date | FR Cite
NPRM | 08/11/11 | 76 FR 49976
Notice of Public Meetings | 09/09/11 | 76 FR 55847
NPRM Comment Period End | 12/09/11
Final Rule | To Be Determined

Regulatory Flexibility Analysis Required: Yes.

Agency Contact: Patrick Mannion, Project Manager, CG-OES2, Department of Homeland Security, U.S. Coast Guard, 2100 Second Street SW., STOP 7126, Washington, DC 20593-7126, Phone: 202 372-1439, Email: patrick.j.mannion@uscg.mil.

RIN: 1625-AB06

190. Marpol Annex 1 Update

Legal Authority: 33 U.S.C. 1902; 46 U.S.C. 3306

Abstract: In this rulemaking, the Coast Guard would amend the regulations in subchapter O (Pollution) of title 33 of the CFR, including regulations on vessels carrying oil, oil pollution prevention, oil transfer operations, and rules for marine environmental protection regarding oil tank vessels, to reflect changes to international oil pollution standards adopted since 2004. Additionally, this regulation would update shipping regulations in title 46 to require Material Safety Data Sheets, in accordance with international agreements, to protect the safety of mariners at sea.

Timetable:

Action | Date | FR Cite
NPRM | 04/09/12 | 77 FR 21360
NPRM Comment Period End | 07/26/12
Comment Period Extended | 09/07/12 | 77 FR 43741
Final Rule | To Be Determined

Regulatory Flexibility Analysis Required: Yes.

Agency Contact: LCDR William Nabach, Project Manager, Office of Design & Engineering Standards, CG-OES-2, Department of Homeland Security, U.S. Coast Guard, 2100 Second Street SW., STOP 7126, Washington, DC 20593-7126, Phone: 202 372-1386, Email: william.a.nabach@uscg.mil.

RIN: 1625-AB57

DEPARTMENT OF HOMELAND SECURITY (DHS)

U.S. Customs and Border Protection (USCBP)

Final Rule Stage

191. Importer Security Filing and Additional Carrier Requirements

Legal Authority: Pub. L. 109-347, sec 203; 5 U.S.C. 301; 19 U.S.C. 66; 19 U.S.C. 1431; 19 U.S.C. 1433 to 1434; 19 U.S.C. 1624; 19 U.S.C. 2071 note; 46 U.S.C. 60105

Abstract: This interim final rule implements the provisions of section 203 of the Security and Accountability for Every Port Act of 2006. It amended CBP Regulations to require carriers and importers to provide to CBP, via a CBP-approved electronic data interchange system, information necessary to enable CBP to identify high-risk shipments to prevent smuggling and insure cargo safety and security. Under the rule, importers and carriers must submit specified information to CBP before the cargo is brought into the United States by vessel. This advance information improves CBP's risk assessment and targeting capabilities, assists CBP in increasing the security of the global trading system, and facilitates the prompt release of legitimate cargo following its arrival in the United States. The interim final rule requested comments on those required data elements for which CBP provided certain flexibilities for compliance and on the revised costs and benefits and Regulatory Flexibility Analysis. CBP plans to issue a final rule after CBP completes a structured review of the flexibilities and analyzes the comments.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09
Interim Final Rule Comment Period End | 06/01/09
Correction | 07/14/09 | 74 FR 33920
Correction | 12/24/09 | 74 FR 68376
Final Action | 02/00/14

Regulatory Flexibility Analysis Required: Yes.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

RIN: 1651-AA70

DEPARTMENT OF HOMELAND SECURITY (DHS)

Transportation Security Administration (TSA)

Proposed Rule Stage

192. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008 (73 FR 64790), the Transportation Security Administration (TSA) issued a Notice of Proposed Rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs.

After considering comments received on the NPRM and sponsoring public meetings with stakeholders, TSA decided to revise the original proposal to tailor security requirements to the general aviation industry. TSA is preparing a supplemental NPRM (SNPRM), which will include a comment period for public comments. TSA is considering the following proposed provisions in the SNPRM: (1) The type of aircraft subject to TSA regulation; (2) compliance oversight; (3) watch list matching of passengers; (4) prohibited items; (5) scope of the background check requirements and the procedures used to implement the requirement; and (6) other issues. Additionally, in the SNPRM, TSA plans to propose security measures for foreign aircraft operators commensurate with measures for U.S. operators.

Timetable:

Action | Date | FR Cite
NPRM | 10/30/08 | 73 FR 64790
NPRM Comment Period End | 12/29/08
Notice—NPRM Comment Period Extended | 11/25/08 | 73 FR 71590
NPRM Extended Comment Period End | 02/27/09
Notice—Public Meetings; Requests for Comments | 12/18/08 | 73 FR 77045
Supplemental NPRM | 02/00/14

Regulatory Flexibility Analysis Required: Yes.

Agency Contact: Kerwin Wilson, Acting Assistant General Manager, General Aviation Security, Department of Homeland Security, Transportation Security Administration, Office of Security Policy and Industry Engagement, TSA-28, HQ, E, 601 South 12th Street, Arlington, VA 20598-6028, Phone: 571 227-3788, Email: kerwin.wilson@tsa.dhs.gov.

Monica Grasso Ph.D., Director, Economic Analysis Branch, Department of Homeland Security, Transportation Security Administration, Office of Security Policy and Industry Engagement, TSA-28, HQ, E10-416N, 601 South 12th Street, Arlington, VA 20598-6028, Phone: 571 227-3329, Email: monica.grasso@tsa.dhs.gov.

Denise Daniels, Attorney, Regulations and Security Standards Division, Department of Homeland Security, Transportation Security Administration, Office of the Chief Counsel, TSA-2, HQ, E12-127S, 601 South 12th Street, Arlington, VA 20598-6002, Phone: 571 227-3443, Fax: 571 227-1381, Email: denise.daniels@tsa.dhs.gov.

RIN: 1652-AA53

DEPARTMENT OF HOMELAND SECURITY (DHS)

Transportation Security Administration (TSA)

Final Rule Stage

193. Aircraft Repair Station Security

Legal Authority: 49 U.S.C. 114; 49 U.S.C. 44924

Abstract: The Transportation Security Administration (TSA) proposed to add a new regulation to improve the security of domestic and foreign aircraft repair stations, as required by the section 611 of Vision 100—Century of Aviation Reauthorization Act and section 1616 of the 9/11 Commission Act of 2007. The regulation proposed general requirements for security programs to be adopted and implemented by certain repair stations certificated by the Federal Aviation Administration (FAA). A notice of proposed rulemaking (NPRM) was published in the Federal Register on November 18, 2009, requesting public comments to be submitted by January 19, 2010. The comment period was extended to February 19, 2010, at the request of the stakeholders to allow the aviation industry and other interested entities and individuals additional time to complete their comments.

TSA has coordinated its efforts with the FAA throughout the rulemaking process to ensure that the final rule does not interfere with FAA's ability or authority to regulate part 145 repair station safety matters.

Timetable:

Action | Date | FR Cite
Notice—Public Meeting; Request for Comments | 02/24/04 | 69 FR 8357
Report to Congress | 08/24/04
NPRM | 11/18/09 | 74 FR 59873
NPRM Comment Period End | 01/19/10
NPRM Comment Period Extended | 12/29/09 | 74 FR 68774
NPRM Extended Comment Period End | 02/19/10
Final Rule | 07/00/13

Regulatory Flexibility Analysis Required: Yes.

Agency Contact: Shawn Gallagher, Regional Security Inspector, Compliance Programs, Repair Stations, Department of Homeland Security, Transportation Security Administration, Office of Security Operations, TSA-29, HQ, E5-312N, 601 South 12th Street, Arlington, VA 20598-6029, Phone: 571 227-4005, Email: shawn.gallagher@tsa.dhs.gov.

Monica Grasso Ph.D., Director, Economic Analysis Branch, Department of Homeland Security, Transportation Security Administration, Office of Security Policy and Industry Engagement, TSA-28, HQ, E10-416N, 601 South 12th Street, Arlington, VA 20598-6028, Phone: 571 227-3329, Email: monica.grasso@tsa.dhs.gov.

Linda L. Kent, Assistant Chief Counsel, Regulations and Security Standards Division, Department of Homeland Security, Transportation Security Administration, Office of the Chief Counsel, TSA-2, HQ, E12-126S, 601 South 12th Street, Arlington, VA 20598-6002, Phone: 571 227-2675, Fax: 571 227-1381, Email: linda.kent@tsa.dhs.gov.

RIN: 1652-AA38

DEPARTMENT OF HOMELAND SECURITY (DHS)

U.S. Immigration and Customs Enforcement (USICE)

Final Rule Stage

194. Standards To Prevent, Detect and Respond To Sexual Abuse and Assault in Confinement Facilities (Section 610 Review)

Legal Authority: 5 U.S.C. 301; 5 U.S.C. 552; 5 U.S.C. 552a; 8 U.S.C. 1103; 8 U.S.C. 1182; . . .

Abstract: The Department of Homeland Security (DHS) proposes to issue final regulations setting detention standards to prevent, detect, and respond to sexual abuse and assault in DHS confinement facilities. These regulations address and respond to public comments received on the notice of proposed rulemaking published December 19, 2012, at 77 FR 75300.

Timetable:

Action | Date | FR Cite
NPRM | 12/19/12 | 77 FR 75300
NPRM Comment Period Extended | 02/07/13 | 78 FR 8987
NPRM Comment Period End | 02/19/13
NPRM Extended Comment Period End | 02/26/13
Final Action | 08/00/13

Regulatory Flexibility Analysis Required: Yes.

Agency Contact: Alexander Hartman, Regulatory Coordinator, Department of Homeland Security, U.S. Immigration and Customs Enforcement, 500 12th Street SW., Washington, DC 20536, Phone: 202 732-6202, Email: alexander.hartman@ice.dhs.gov.

RIN: 1653-AA65

[FR Doc. 2013-17061 Filed 7-22-13; 8:45 am]

BILLING CODE 9110-9B-P